DEPARTMENT OF TRANSPORTATION

Federal Aviation Administration

Notice of Approval of the Record of Decision for Proposed Development at the Flying Cloud Airport, Eden Prairie, MN

AGENCY: Federal Aviation Administration (FAA), DOT.

ACTION: Notice of approval of the Record of Decision (ROD).

SUMMARY: The FAA is announcing approval of the Record of Decision on the Final Environmental Impact Statement and Section 303c Evaluation for proposed development at the Flying Cloud Airport (FCM), Eden Prairie, Minnesota.

FOR FURTHER INFORMATION CONTACT: Mr. Glen Orcutt, FAA, Airports District Office, 6020 28th Avenue South, Suite 102, Minneapolis, MN 55450, telephone (612) 713-4354; fax: (612) 713-4364.

SUPPLEMENTARY INFORMATION: The ROD approves the proposed development at Flying Cloud Airport including: extension of the main runway to 5,000 feet and the other parallel runway to 3,900 feet; the construction of a new building area; land acquisition; service roads around the east and west ends of the parallel runways; hangar removal; Federal actions regarding installation of navigational aides, airspace use, and approach and departure procedures associated with the proposed development; and noise mitigation requirements included in the Final Agreement and MOU between the Metropolitan Airports Commission and the City of Eden Prairie.

The ROD indicates the project is consistent with existing environmental policies and objectives as set forth in the National Environmental Policy Act (NEPA) of 1969, as amended, and will not significantly affect the quality of the environment.

In reaching this decision, the FAA has given careful consideration to: (a) The role of FCM in the national air transportation system, (b) aviation safety, (c) preferences of the airport owner, (d) anticipated environmental impact, and (e) the decisions of the Minnesota State Legislature.

Discussions of these factors are documented in the Draft Environmental Impact Statement, the Final Environmental Impact Statement (FEIS) and Section 303c Evaluation, for the project. The notice of availability of the FEIS appeared in the Federal Register on June 18, 2004 (Volume 69, Number 117, Pages 34161-34162), and the comment period ran through September 17, 2004. The FAA's determinations on the project are outlined in the ROD, which was approved on May 15, 2008.

Issued in Minneapolis, Minnesota, on May 28, 2008.
Robert A. Huber,
Manager, Minneapolis Airports District Office, FAA, Great Lakes Region.

[FR Doc. E8-13521 Filed 6-13-08; 8:45 am]

BILLING CODE 4910-13-P